DEPARTMENT OF TRANSPORTATION

Federal Aviation Administration

Agency Information Collection Activity Seeking OMB Approval

AGENCY: Federal Aviation Administration (FAA), DOT.

ACTION: Notice.

SUMMARY: The FAA invites public comments about our intention to request the Office of Management and Budget's (OMB) revision of a current information collection. The Federal Register Notice with a 60-day comment period soliciting comments on the following collection of information was published on December 6, 2007, vol. 72, no. 234, page 68949. This collection maintains a reservation reporting system for unscheduled instrument flight rule (IFR) arrivals at Chicago's O'Hare International Airport.

DATES: Please submit comments by April 25, 2008.

FOR FURTHER INFORMATION CONTACT: Carla Mauney at: Carla.Mauney@faa.gov.

SUPPLEMENTARY INFORMATION:

Federal Aviation Administration (FAA)

Title: Reservations for Unscheduled Operations at Capacity Coordinated Airports.

Type of Request: Revision of a currently approved collection.

OMB Control Number: 2120-0694.

Form(s): There are no FAA Forms associated with this collection.

Affected Public: An estimated 182 Respondents.

Frequency: This information is collected on occasion.

Estimated Average Burden per Response: Approximately 2 minutes per response.

Estimated Annual Burden Hours: An estimated 2,204 hours annually.

Abstract: This collection maintains a reservation reporting system for unscheduled instrument flight rule (IFR) arrivals at Chicago's O'Hare International Airport. This collection implements a reservation reporting system for unscheduled IFR arrival and departure operations at New York's Kennedy and Newark's Liberty International Airports. Respondents are operators seeking approval to conduct unscheduled operations during peak hours.

ADDRESSES: Interested persons are invited to submit written comments on the proposed information collection to the Office of Information and Regulatory Affairs, Office of Management and Budget. Comments should be addressed to Nathan Lesser, Desk Officer, Department of Transportation/FAA, and sent via electronic mail to oira_submission@omb.eop.gov or faxed to (202) 395-6974.

Comments are invited on: Whether the proposed collection of information is necessary for the proper performance of the functions of the Department, including whether the information will have practical utility; the accuracy of the Department's estimates of the burden of the proposed information collection; ways to enhance the quality, utility, and clarity of the information to be collected; and ways to minimize the burden of the collection of information on respondents, including the use of automated collection techniques or other forms of information technology.

Issued in Washington, DC, on March 18, 2008.
Carla Mauney,
FAA Infomation Collection Clearance Officer, IT Enterprises Business Services Division, AES-200.

[FR Doc. E8-5932 Filed 3-25-08; 8:45 am]

BILLING CODE 4910-13-M